DEPARTMENT OF TRANSPORTATION

Office of the Secretary

Notice of Applications for Certificates of Public Convenience and Necessity and Foreign Air Carrier Permits Filed Under Subpart B (Formerly Subpart Q) During the Week Ending September 13, 2002

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-1995-370.

Date Filed: September 9, 2002.

Due Date for Answers, Conforming Applications, or Motion to Modify Scope: September 30, 2002.

Description: Amendment of United Air Lines, Inc., pursuant to 49 U.S.C. 41101, 14 CFR parts 201 and 302, and Subpart B, amending its application for renewal of its certificate of public convenience and necessity for Route 703, authorizing it to engage in scheduled foreign air transportation of persons, property, and mail from any point or points in the United States, via any intermediate points, to any point or points in Peru and beyond, consistent with the open skies regime between the United States and Peru.

Docket Number: OST-2002-13330.

Date Filed: September 10, 2002.

Due Date for Answers, Conforming Applications, or Motion to Modify Scope: October 1, 2002.

Description: Application of TAP Air Portugal, pursuant to 49 U.S.C 41301 and 41302, 14 CFR parts 211 and 302, and subpart B, requesting an amendment to its foreign air carrier permit authorizing TAP to provide: (a) Scheduled foreign air transportation of persons, property and mail from points behind Portugal via Portugal and intermediate points to a point or points in the United States and beyond, as provided in Annex I of the Open Skies Agreement, together with all of the operational rights provided for in the Annex; and, (b) charter service in foreign air transportation of passengers (and their accompanying baggage) and/or cargo to the full extent permitted by Annex II of the Open Skies Agreement.

Docket Number: OST-2002-13365.

Date Filed: September 13, 2002.

Due Date for Answers, Conforming Applications, or Motion to Modify Scope: October 4, 2002.

Description: Application of Glenwood Aviation, LLC, d/b/a America Rising, pursuant to 49 U.S.C 41102, part 204 and subpart B, requesting a certificate of public convenience and necessity, authorizing Glenwood to engage in interstate scheduled air transportation of persons, property and mail.

Andrea M. Jenkins,
Federal Register Liaison.

[FR Doc. 02-23921 Filed 9-19-02; 8:45 am]

BILLING CODE 4910-62-P